DEPARTMENT OF AGRICULTURE

Forest Service

Intent to Prepare an Environmental Impact Statement for Southwestern Region, Arizona, Coconino County, Coconino National Forests

AGENCY: Forest Service, USDA.

SUMMARY: The Coconino National Forest is planning to prepare an environmental impact statement on a proposal to improve grassland and woodland conditions for wildlife and manage livestock grazing use on the Pickett Lake and Padre Canyon Grazing Allotments during the next 10 years.

DATES: Comments in response to this Notice of Intent concerning the scope of the analysis should be received in writing by on or before February 20, 2001.

ADDRESSES: Send written comments to USDA Forest Service, Coconino National Forest, Peaks Ranger Station, 5075 N Hwy 89, Flagstaff, AZ 86004. Electronic mail may be sent to mhannemann@fs.fed.us.

Responsible Official: The Forest Supervisor of the Coconino National Forest, Supervisor's Office 2323 Greenlaw Lane, Flagstaff, AZ 86004, will decide what actions are most appropriate for managing the Pickett and Padre Range Allotments.

FOR FURTHER INFORMATION CONTACT: Mike Hannemann, Interdisciplinary Team Leader, Peaks Ranger District, (520) 526-0866.

SUPPLEMENTARY INFORMATION: This proposal includes 14,774 acres of pinyon, juniper and ponderosa pine treatments. Ponderosa pine cuts would be on trees <6″ in diameter at breast height (DBH). Slash crushing and seeding will be done in pinyon and juniper treatment areas where slash is heavy and dense trees have removed the grass seed source from the area. Approximately $258,810 will be spent on cutting the trees. Approximately $95,500 will be spent on slash crushing, harrowing and seeding. Approximately $126,500 would be spent on archaeological surveys on the tree cutting areas. The Forest Service will look for grants and partners to supplement normal Forest Service funds to complete the pinyon and juniper treatments, slash crushing, harrowing and seeding.

This proposal also has a Forest Service permit of up to 850 cattle from June 1 to September 30 on the 34,814 acres Pickett Lake Allotment and up to 125 cattle from August 1 to September 30 on the 20,993 acres Padre Canyon Allotment. This is a 10% reduction in cattle use on Pickett Lake Allotment and a 31% reduction in cattle use on the Padre Canyon Allotment. In addition, this proposal has a combined grazing system option of up to 913 cattle from June 1 to September 30 on both allotment areas, a 14% overall reduction in cattle use. In addition to maintaining current range structures, approximately $25,600 will be spent on one mile of barbwire fence, four miles of pipeline and five drinkers. The Forest Service will spend approximately $13,700 primarily for materials and the permittee will spend approximately $11,900 primarily for installation of the improvements.

Preliminary issues include the effect of grazing on the environment, especially watershed conditions and pronghorn antelope habitat.

The Proposed action was mailed to 104 individuals, organizations and cooperating resource agencies for review and comment on January 5, 2001. From comments received, the Team will develop statements to capture the substantive issues and developed alternatives other than the proposed action. If you would like a copy of the proposed action please contact our office. Your comments will be included in our environmental analysis.

It is anticipated that environmental analysis and preparation of the draft and final environmental impact statements will take about six months. The Draft Environmental Impact Statement can be expected April of 2001 and the Final EIS in summer. The comment period on the draft environmental impact statement extends 45 days from the date the Environmental Protection Agency publishes the notice of availability in the Federal Register.

The Forest Service believes, at this early stage, it is important to give reviewers notice of several court rulings related to public participation in the environmental review process. To be the most helpful, comments on the draft environmental impact statement should be as specific as possible and may address the adequacy of the statement or the merits of the alternatives discussed (see Council of Environmental Quality Regulations for implementing the procedural provisions of the National Environmental Policy Act at 40 CFR 1503.3).

In addition, Federal court decisions have established that reviewers of draft environmental impact statements must structure their participation in the environmental review of the proposal so that it is meaningful and alerts an agency to the reviewers' position and contentions. Vermont Yankee Nuclear Power Corp. v. NRDC 435 US 519, 553 (1978). Environmental objections that could have been raised at the draft state may be waived if not raised until after completion of the final environmental impact statement. City of Angoon v. Hodel 9th Circuit, 1986) and Wisconsin Heritages, Inc v. Harris, 490F. Supp. 1334, 1338 (E.D. Wis. 1980). The reason for this is to ensure that substantive comments and objections are made available to the Forest Service at a time when it can meaningfully consider them in the final environmental impact statement.

To assist the Forest Service in identifying and considering issues and concerns on the proposal action, comments on the draft environmental impact statement should be as specific as possible. It is also helpful if comments refer to specific pages or chapters of the draft statement. Comments may also address the adequacy of the draft environmental impact statement or the merits of the alternatives formulated and discussed in the statement. Reviewers may wish to refer to the Council of Environmental Quality Regulations for implementing the procedural provisions of the National Environmental Policy Act at 40 CFR 1503.3 in addressing these points.

Dated: January 5, 2001.
Jim Golden,
Forest Supervisor.

[FR Doc. 01-1391 Filed 1-17-01; 8:45 am]

BILLING CODE 3410-11-M